DEPARTMENT OF JUSTICE

Drug Enforcement Administration

[Docket No. 03-025]

Carlin Paul Graham, Jr., M.D. Revocation of Registration

On November 8, 2004, the Deputy Assistant Administrator, Office of Diversion Control, Drug Enforcement Administration (DEA), issued an Order to Show Cause to Carlin Paul Graham, Jr., (Respondent) of Talladega, Alabama, notifying him of an opportunity to show cause as to why DEA should not revoke his DEA Certificate of Registration BG2476186 as a practitioner pursuant to 21 U.S.C. 824(a) and deny any pending applications for renewal or modification of that registration pursuant to 21 U.S.C. 823(f). As a basis for revocation, the Order to Show Cause alleged that Respondent's license to practice medicine in Alabama had been indefinitely suspended and he was no longer authorized to handle controlled substances in that state.

Respondent, through counsel, timely requested a hearing in this matter. One January 19, 2005, the Presiding Administrative Law Judge Gail A. Randall (Judge Randall) issued the Government, as well as Respondent, an Order for Prehearing Statements.

In lieu of filing a prehearing statement, the Government filed a Request for Stay of Proceedings and Motion for Summary Disposition (Motion). In that Motion the Government asserted the Medical Licensure Commission of Alabama (Alabama Commission), had indefinitely suspended Respondent's Alabama State Medical License and, as a result, he was no longer authorized to handle controlled substances in the state where he is registered with DEA. Attached to the Government's Motion was a copy of the Alabama Commission's Order dated October 30, 2003, indefinitely suspending Respondent's medical license.

On January 31, 2005, Judge Randall issued an order allowing Respondent until February 22, 2005, to respond to the Government's Motion. Respondent did not file any response and on March 25, 2005, Judge Randall issued her Order, Opinion and Recommended Decision of the Administrative Law Judge (Opinion and Recommended Decision). In it, she granted the Government's Motion, finding Respondent lacked authorization to handle controlled substances in his state of DEA registration and recommended that his registration be revoked.

No exceptions were filed by either party to the Opinion and Recommended Decision and on April 26, 2005, the record of these proceedings was transmitted to the Office of the DEA Deputy Administrator.

The Deputy Administrator has considered the record in its entirety and pursuant to 21 CFR 1316.67, hereby issues her final order, based upon findings of fact and conclusions of law as hereinafter set forth. The Deputy Administrator adopts, in full, the Opinion and Recommended Decision of the Administrative Law Judge.

The Deputy Administrator finds Respondent currently holds DEA Certificate of Registration BG2476186 as a practitioner and that on October 30, 2003, the Alabama Commission indefinitely suspended his license to practice medicine in that State. The suspension was predicated on the Commission's findings that Respondent engaged in unprofessional conduct, had staff privileges terminated, revoked or restricted by a hospital and was “unable to practice medicine with reasonable skill and safety to patients by reason of illness or as a result of a mental or physical condition.”

The Deputy Administrator's therefore finds Respondent is currently not licensed to practice medicine in Alabama and lacks authorization to handle controlled substances in that state.

DEA does not have statutory authority under the Controlled Substances Act to issue or maintain a registration if the applicant or registrant is without state authority to handle controlled substances in the state in which he conducts business. See 21 U.S.C. 802(21), 823(f) and 824(a)(3). This prerequisite has been consistently upheld. See Stephen J. Graham, M.D., 69 FR 11,661 (2004), Dominick A. Ricci, M.D., 58 FR 51,104 (1993); Bobby Watts, M.D., 53 FR 11,919 (1988). Denial or revocation is also appropriate when a state license has been suspended, but with the possibility of future reinstatement. See Paramabaloth Edwin, M.D., 69 FR 58,540 (2004); Alton E. Ingram, Jr., M.D., 69 FR 22,562 (2004); Anne Lazar Thorn, M.D., 62 FR 847 (1997).

Here, it is clear Respondent is not currently licensed to handle controlled substances in Alabama, the jurisdiction in which he holds a DEA registration. Therefore, he is not entitled to registration in that state.

Accordingly, the Deputy Administrator of the Drug Enforcement Administration, pursuant to the authority vested in her by 21 U.S.C. 823 and 824 and 28 CFR 0.100(b) and 0.014, hereby orders that DEA Certificate of Registration BG2476186, issued to Carlin Paul Graham Jr., M.D., be, and it hereby is, revoked. The Deputy Administrator further orders that any pending applications for renewal or modification of such registration be, and they hereby are, denied. This order is effective July 7, 2005.

Dated: May 25, 2005.
Michele M. Leonhart,
Deputy Administrator.

[FR Doc. 05-11247 Filed 6-6-05; 8:45 am]

BILLING CODE 4410-09-M